FEDERAL COMMUNICATIONS COMMISSION

[OMB 3060-xxxx]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before July 17, 2015. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-XXXX.

Title: Public Safety Access Point (PSAP) Performance Questionnaire.

Form No.: Not applicable.

Type of Review: New collection.

Respondents: Business or other for-profit entities; individuals or households; not-for-profit institutions; and State, local, or tribal Governments.

Number of Respondents and Responses: 50 respondents; 50 responses.

Estimated Time Per Response: 1 hour.

Frequency of Response: On occasion requirement; recordkeeping requirement and third party disclosure requirement.

Obligation to Respond: Voluntary. Statutory authority for this information collection is contained in Section 1 and 4(i) of the Communications Act.

Total Annual Burden: 50 hours.

Total Annual Cost: None.

Privacy Act Impact Assessment: No impact(s).

Nature and Extent of Confidentiality: There is no need for confidentiality with this information collection.

Needs and Uses: The Commission has compiled and maintains a database of Public Safety Answering Points (PSAPs) throughout the nation as part of its effort to support the expeditious implementation of E911 across the nation. The information sought in this information collection is needed to enable the Commission to ensure that the American public can report to the Commission directly problems associated with the use of 911 services. While we expect such reports to be few in number, examples of potential problems using 911 services include, but are not limited to: 911 service outages, Phase1/Phase 2 deployments, location accuracy, text-to-911 service, fraudulent and harassing 911 calls, PSAP-carrier lines of demarcation and requests for an update of master PSAP registry.

The Commission has established a web portal that allows citizens to file complaints or inquiries online. The simple questionnaire will ask the filer to type in the following information: (1) Name of PSAP; (2) PSAP ID (enables a link to the Master PSAP Registry); (3) PSAP Physical Address (number, street, city, state, zip code); (4) PSAP County of Operation; (5) Complainant's Name; (6) Complainant's Title; (7) Complainant's Organization; (8) Complainant's Phone Number; (9) Complainant's Email; (10) Nature of Inquiry—a. Complaint; b. Inquiry; (11) Complaint/Inquiry Type—a. 911 Service Outage; b. Phase1/Phase 2 Deployments; c. Location Accuracy; d. Text-to-911 Service; e. Fraudulent 911 Calls; f. PSAP—Carrier Lines of Demarcation; g. Request for Update of Master PSAP Registry; (12) Description of complaint/inquiry (Max. 1500 words); and (13) Attachments—Upload tool (should support Word Suite, PDF, Text). The questionnaire will also provide filers with the ability to upload documents and files to complete their complaints and inquiries.

Federal Communications Commission.
Gloria J. Miles,
Federal Register Liaison Officer, Office of the Secretary, Office of the Managing Director.

[FR Doc. 2015-11874 Filed 5-15-15; 8:45 am]

BILLING CODE 6712-01-P